DEPARTMENT OF HEALTH AND HUMAN SERVICES

Substance Abuse and Mental Health Services Administration

Fiscal Year (FY) 2002 Funding Opportunities

AGENCY: Substance Abuse and Mental Health Services Administration, DHHS.

ACTION: Notice of funding availability.

SUMMARY: The Substance Abuse and Mental Health Services Administration (SAMHSA) Center for Mental Health Services (CMHS) announces the availability of FY 2002 funds for grants for the following activity. This notice is not a complete description of the activity; potential applicants must obtain a copy of the Guidance for Applicants (GFA), including Part I, Targeted Capacity Expansion Grants to Address Mental Health Service Needs of Public Safety Workers Responding to Terrorist Attacks (SM 02-00), and Part II, General Policies and Procedures Applicable to all SAMHSA Applications for Discretionary Grants and Cooperative Agreements, before preparing and submitting an application.

Activity | Application deadline | Est. funds FY 2001 | Est. number of awards | Project period (years)
Targeted Capacity Expansion Grants to Address Mental Health Service Needs of Public Safety Workers Responding to Terrorist Attacks | June 19, 2002 | $2,200,000 | 6 | 3

The actual amount available for the award may vary, depending on unanticipated program requirements and the number and quality of applications received. FY 2002 funds for the activity discussed in this announcement were appropriated by the Congress under Public Law No. 106-310. SAMHSA's policies and procedures for peer review and Advisory Council review of grant and cooperative agreement applications were published in the Federal Register (Vol. 58, No. 126) on July 2, 1993.

General Instructions

Applicants must use application form PHS 5161-1 (Rev. 7/00). The application kit contains the two-part application materials (complete programmatic guidance and instructions for preparing and submitting applications), the PHS 5161-1 which includes Standard Form 424 (Face Page), and other documentation and forms. Application kits may be obtained from: Knowledge Exchange Network, P.O. Box 42490, Washington, DC 20015. 800-789-2647.

The PHS 5161-1 application form and the full text of the activity are also available electronically via SAMHSA's World Wide Web home page: http://www.samhsa.gov.

When requesting an application kit, the applicant must specify the particular activity for which detailed information is desired. All information necessary to apply, including where to submit applications and application deadline instructions, are included in the application kit.

Purpose

The Substance Abuse and Mental Health Services Administration (SAMHSA), The Center for Mental Health Services (CMHS), announces the availability of fiscal year 2002 funds to support the provision of mental health services to public safety workers who respond to major national disasters such as the September 11, 2001, terrorist attacks.

The purpose of this program is to provide high-quality community-based mental health services for fire and rescue personnel, police officers, and other workers directly involved in recovery efforts resulting from such events. In particular, the program is aimed at addressing the needs of workers engaged in rescue efforts or in searches for the missing and deceased. Emphasis will be placed on services that build upon the available evidence of effective ways to promote healthy coping behaviors in response to traumatic exposure and grief.

Eligibility

States, political subdivisions of States, private nonprofit agencies, and Indian Tribes and tribal organizations may apply for targeted capacity expansion grants. For example, the following are eligible to apply:

• Community-based mental health providers.

• Nonprofit employee assistance programs.

• Occupational health organizations.

• Voluntary organizations, including faith-based organizations.

Funds under this announcement are intended to provide interim and long-term services for public safety workers involved in the response to the September 11 terrorist attacks. Therefore, applications are limited to programs from States that were directly impacted by the September 11 attacks (New York, Virginia, and Pennsylvania) and to programs from adjacent States (New Jersey, Connecticut, Massachusetts, Rhode Island, Maryland and the District of Columbia), where significant numbers of public safety workers were involved in response efforts through mutual aid agreements. Applicants must provide a detailed justification of needs directly related to the September 11 attacks.

Availability of Funds

In FY 2002, approximately $2,200,000 will be available for up to six awards.

Period of Support

The award may be requested for up to three years.

Criteria for Review and Funding

General Review Criteria: Competing applications requesting funding under this activity will be reviewed for technical merit in accordance with established PHS/SAMHSA peer review procedures. Review criteria that will be used by the peer review groups are specified in the application guidance material.

Award Criteria for Scored Applications

Applications will be considered for funding on the basis of their overall technical merit as determined through the peer review group and the appropriate National Advisory Council review process. Availability of funds will also be an award criteria.

Additional award criteria may be included in the application guidance materials.

Catalog of Federal Domestic Assistance Number: 93.243.

Program Contact

For questions concerning program issues, contact: Seth Hassett, M.S.W., Public Health Advisor, 5600 Fishers Lane, Room 17C-20, Rockville, MD 20857.

(301) 443-4735.

E-mail: shassett@samhsa.gov.

For questions regarding grants management issues, contact: Steve Hudak, Division of Grants Management, Substance Abuse and Mental Health, Services Administration, 5600 Fishers Lane 13-103, Rockville, MD 20857.

(301) 443-9666.

E-Mail: shudak@samhsa.gov.

Public Health System Reporting Requirements

The Public Health System Impact Statement (PHSIS) is intended to keep state and local health officials apprized of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular activity is subject to the Public Health System Reporting Requirements.

PHS Non-Use of Tobacco Policy Statement

The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372

Applications submitted in response to the FY 2002 activity listed above are subject to the intergovernmental review requirements of Executive Order 12372, as implemented through DHHS regulations at 45 CFR part 100. Executive Order 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: April 18, 2002.
Richard Kopanda,
Executive Officer, SAMHSA.

[FR Doc. 02-10228 Filed 4-25-02; 8:45 am]

BILLING CODE 4162-20-P